DEPARTMENT OF COMMERCE

National Oceanic and Atmospheric Administration

RIN 0648-XG224

Gulf of Mexico Fishery Management Council; Public Meeting

AGENCY: National Marine Fisheries Service (NMFS), National Oceanic and Atmospheric Administration (NOAA), Commerce.

ACTION: Notice of a public meeting.

SUMMARY: The Gulf of Mexico Fishery Management Council will hold a public hearing via webinar for Reef Fish Amendment 49—Modifications to the Sea Turtle Release Gear and Framework Procedure for the Reef Fish Fishery.

DATES: The webinar will take place on Thursday, May 31, 2018. The webinar will begin at 6 p.m. and conclude no later than 9 p.m. EDT.

ADDRESSES: The meeting will take place via webinar; see below for webinar link. Council address: Gulf of Mexico Fishery Management Council, 2203 N. Lois Avenue, Suite 1100, Tampa, FL 33607; telephone: (813) 348-1630.

FOR FURTHER INFORMATION CONTACT: Dr. Carrie M. Simmons, Deputy Director, Gulf of Mexico Fishery Management Council; carrie.simmons@gulfcouncil.org; telephone: (813) 348-1630.

SUPPLEMENTARY INFORMATION:

Thursday, May 31, 2018; beginning at 6 p.m. and concluding no later than 9 p.m., EDT.

The Gulf of Mexico Fishery Management Council is holding a webinar public hearing to review Reef Fish Amendment 49: Modifications to the Sea Turtle Release Gear and Framework Procedure for the Reef Fish Fishery. Council staff will brief the public on the document's two actions. The first action considers modifying the regulations to allow three new approved sea turtle release gears as well as clarify a minimum size limit for a current gear requirement. This action applies to commercial and charter/headboat vessels with federal Gulf reef fish permits.

The second action would modify the framework procedure to allow new gears to be approved for use without a full amendment to the fishery management plan in the future. Staff will then open the meeting for questions and public comments.

You may register for the Public Hearing: Reef Fish Amendment 49 meeting on Thursday, May 31, 2018 at: https://attendee.gotowebinar.com/register/5060744549711112707.

The meeting will be broadcast via webinar. You may listen in by registering for the webinar by visiting www.gulfcouncil.org and clicking on the Public Hearing: Reef Fish Amendment 49 meeting on the calendar.

The Agenda is subject to change, and the latest version along with other meeting materials will be posted on www.gulfcouncil.org as they become available.

Dated: May 7, 2018.
Tracey L. Thompson,
Acting Deputy Director, Office of Sustainable Fisheries, National Marine Fisheries Service.

[FR Doc. 2018-09952 Filed 5-9-18; 8:45 am]

BILLING CODE 3510-22-P